NUCLEAR REGULATORY COMMISSION

Sunshine Act Meeting

Agency Holding the Meetings: Nuclear Regulatory Commission.

Date: Weeks of January 10, 17, 24, 31, February 7, 14, 2005.

Place: Commissioners' Conference Room, 11555 Rockville Pike, Rockville, Maryland.

Status: Public and closed.

Matters To Be Considered:

Week of January 10, 2005

Tuesday, January 11, 2005

9:30 a.m. Discussion of Security Issues (Closed—Ex. 1 & 9).

Wednesday, January 12, 2005

9:30 a.m. Discussion of Security Issues (Closed—Ex. 1 & 9).

Week of January 17, 2005—Tentative

There are no meetings scheduled for the Week of January 17, 2005.

Week of January 24, 2005—Tentative

Monday, January 24, 2005

9:30 a.m. Discussion of Security Issues (Closed—Ex. 1).

1:30 p.m. Discussion of Security Issues (Closed—Ex. 1, 2, 3, & 4).

Tuesday, January 25, 2005

9:30 a.m. Discussion of Security Issues (Closed—Ex. 1).

Week of January 31, 2005—Tentative

Thursday, February 3, 2005

9:30 a.m. Briefing on Human Capital Initiatives (Closed—Ex. 2) (Tentative).

Week of February 7, 2005—Tentative

There are no meetings scheduled for the Week of February 7, 2005.

Week of February 14, 2005—Tentative

Tuesday, February 15, 2005

9:30 a.m. Briefing on Office of Nuclear Material Safety and Safeguards Programs, Performance, and Plans—Waste Safety (Public Meeting) (Contact: Jessica Shin, (301) 415-8117).

This meeting will be webcast live at the Web address http://www.nrc.gov.

1:30 p.m. Briefing on Emergency Preparedness Program Initiatives (Closed—Ex. 1).

*The schedule for Commission meetings is subject to change on short notice. To verify the status of meetings call (recording)—(301) 415-1292. Contact person for more information: Dave Gamberoni, (301) 415-1651.

* * * * *

Additional Information: By a vote of 3-0 on December 30, 2004, the Commission determined pursuant to U.S.C. 552b(e) and § 9.107(a) of the Commission's rules that “Affirmation of Motion by Rene Chun for ‘Clarification and Amendment’ of CLI-04-34” be held January 5, 2005, and on less than one week's notice to the public.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 ((301) 415-1969). In addition, distribution of this meeting notice over the Internet system is available. If you are interested in receiving this Commission meeting schedule electronically, please send an electronic message to dkw@nrc.gov.

Dated: January 6, 2005.
Dave Gamberoni,
Office of the Secretary.

[FR Doc. 05-588 Filed 1-7-05; 9:21 am]

BILLING CODE 7590-01-M